DEPARTMENT OF THE INTERIOR

Fish and Wildlife Service

[FWS-R8-ES-2015-N247; FXES11130000-156-FF08E00000]

Endangered and Threatened Wildlife and Plants; Recovery Plan for Vine Hill Clarkia

AGENCY: Fish and Wildlife Service, Interior.

ACTION: Notice of document availability.

SUMMARY: We, the U.S. Fish and Wildlife Service, announce the availability of the Recovery Plan for Vine Hill Clarkia (Clarkia imbricata). The recovery plan includes recovery objectives and criteria, and specific actions necessary to achieve downlisting and delisting from the Federal Lists of Endangered and Threatened Wildlife and Plants.

ADDRESSES: You may obtain a copy of the recovery plan from our Web site at http://www.fws.gov/endangered/species/recovery-plans.html. Alternatively, you may contact the Sacramento Fish and Wildlife Office, U.S. Fish and Wildlife Service, 2800 Cottage Way, Suite W-2605, Sacramento, CA 95825 (telephone 916-414-6700).

FOR FURTHER INFORMATION CONTACT: Jennifer Norris, Field Supervisor, at the above street address or telephone number (see ADDRESSES).

SUPPLEMENTARY INFORMATION:

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer appropriate under the criteria specified in section 4(a)(1) of the Act. The Act requires the development of recovery plans for listed species, unless such a plan would not promote the conservation of a particular species.

We listed Vine Hill clarkia throughout its entire range as endangered on October 22, 1997 (62 FR 55791). The species was also listed as endangered by the State of California in 1978. It is a narrow endemic, historically known from three locations in central Sonoma County, California, all three of which may be extirpated. Currently, the species is only known to exist as a single introduced population on the 0.6-hectare (1.5-acre) Vine Hill Preserve, owned and managed by the California Native Plant Society. Between 2007 and 2012, the population fluctuated from approximately 500 to 8,781 plants.

All known populations of Vine Hill clarkia are located between 60 to 75 meters (197 to 246 feet) elevation, on what has been mapped as Goldridge acidic sandy loams, in an area sometimes referred to as the Sonoma Barrens. The ability of Vine Hill clarkia to persist naturally outside of Sonoma Barrens conditions is unknown. The Sonoma Barrens are an area within Sonoma County located halfway between maritime and inland climates, in a pronounced fog gap that makes it subject to peculiar climatic fluctuations.

At this time, the primary threats to Vine Hill clarkia are competition for light and space with native and non-native species and risk of extinction from stochastic environmental events associated with small populations. Because of the extreme range restriction of this already-narrow endemic, and its small population size, the plant is highly vulnerable to extinction from random events, including wildfire, herbivory, disease and pest outbreaks, and human disturbance.

Two species of concern are also addressed in this recovery plan, Vine Hill manzanita (Arctostaphylos densiflora) and Vine Hill ceanothus (Ceanothus foliosus var. vineatus), which historically coexisted with Vine Hill clarkia. Vine Hill manzanita and Vine Hill ceanothus are included in this recovery plan because a community-based recovery strategy provides for conservation of species with similar habitat requirements to those of Vine Hill clarkia, and because recovery actions implemented for Vine Hill clarkia that do not consider these other rare species may negatively affect the community. These two species are, respectively, State listed as endangered and listed Rank 1B by the California Native Plant Society.

Recovery Plan Goals

The purpose of a recovery plan is to provide a framework for the recovery of species so that protection under the Act is no longer necessary. A recovery plan includes scientific information about the species and provides criteria that enable us to gauge whether downlisting or delisting the species is warranted. Furthermore, recovery plans help guide our recovery efforts by describing actions we consider necessary for each species' conservation and by estimating time and costs for implementing needed recovery measures.

The goal of this recovery plan is to improve the status of Vine Hill clarkia so that it can be delisted. The interim goal is to recover the species to the point that it can be downlisted from endangered to threatened status. The recovery objectives of the plan are:

• Restore Sonoma Barrens habitat and establish Vine Hill clarkia.

• Manage native and nonnative vegetation that competes with Vine Hill clarkia.

• Ensure locations with Vine Hill clarkia are secure from incompatible uses.

The recovery plan contains recovery criteria based on protecting, maintaining, and increasing populations, as well as increasing habitat quality and quantity. As Vine Hill clarkia meets recovery criteria, we will review its status and consider it for downlisting or removal from the Federal Lists of Endangered and Threatened Wildlife and Plants.

Community conservation efforts recommended for Vine Hill manzanita and Vine Hill ceanothus include establishing these species, either in concert with each other and Vine Hill clarkia, or separately.

Authority

We developed this recovery plan under the authority of section 4(f) of the Act, 16 U.S.C. 1533(f). We publish this notice under section 4(f) of the Endangered Species Act of 1973, as amended (16 U.S.C. 1531 et seq.).

Alexandra Pitts,
Acting Regional Director, Pacific Southwest Region.

[FR Doc. 2016-09104 Filed 4-19-16; 8:45 am]

BILLING CODE 4333-15-P